DEPARTMENT OF THE INTERIOR

Fish and Wildlife Service

Information Collections Submitted to the Office of Management and Budget for Approval Under the Paperwork Reduction Act

AGENCY: Fish and Wildlife Service, Interior.

ACTION: Notice of information collection; request for comments.

SUMMARY: The U.S. Fish and Wildlife Service (Service) has submitted the material described below to the Office of Management and Budget (OMB) for approval under the provisions of the Paperwork Reduction Act of 1995. Copies of the specific information requirements, related forms and explanatory material may be obtained by contacting the Service Information Collection Clearance Officer at the address provided below.

DATES: We will consider all comments received on or before October 21, 2002. The 60-day notice was published in the Federal Register on April 23, 2002 (67 FR 19771). No comments were received during the 60-day period.

ADDRESSES: Send your comments and/or suggestions on the requirement to the Office of Management and Budget, Office of Information and Regulatory Affairs, Attention: Department of the Interior Desk Officer, 725—17th Street, NW., Washington, DC 20503, with a copy to Anissa Craghead, Service Information Collection Clearance Officer, U.S. Fish and Wildlife Service, MS 222—ARLSQ, 1849 C Street, NW., Washington, DC 20240; telephone number 703.358.2445.

FOR FURTHER INFORMATION CONTACT: To receive a copy of the information collection request, explanatory information and related forms, contact Anissa Craghead at 703.358.2445, or electronically to anissa_craghead@fws.gov.

SUPPLEMENTARY INFORMATION: The OMB regulations at 5 CFR part 1320, which implement provisions of the Paperwork Reduction Act of 1995 (Pub. L. 104-13), require that interested members of the public and affected agencies have an opportunity to comment on information collection and recordkeeping activities (see 5 CFR 1320.8(d)). We are seeking a renewal of clearance from the OMB to collect information in conjunction with the Evaluation Grants Program to be conducted under the North American Wetlands Conservation Act (NAWCA) (Pub. L. 101-233, as amended; December 13, 1989). The assigned OMB information collection control number is 1018-0104 and approval will expire on September 30, 2002.

Section 19 of NAWCA (Assessment of Progress in Wetlands Conservation), requires the Secretary of the Interior, in cooperation with the North American Wetlands Conservation Council, to: “* * * (1) develop and implement a strategy to assist in the implementation of this Act in conserving the full complement of North American wetlands systems and species dependent on those systems, that incorporates information existing on the date of the issuance of the strategy in final form on types of wetlands habitats and species dependent on the habitats; and (2) develop and implement procedures to monitor and evaluate the effectiveness of wetlands conservation projects completed under this Act.” To meet this requirement, we are continuing the Evaluation Grants Program initiative that requires selected prospective grantees to submit pre-proposals and proposals that are geared specifically to project approaches that will readily provide data for monitoring and evaluation purposes. Current NAWCA projects do not, and cannot, provide the data and information necessary to meet the monitoring and evaluation requirements of Section 19. We have available, upon request, updated supporting evaluation grants guidelines, or instructions, that will provide the basis for information collection and this request. We also have available for review and comment the original “Strategy For Implementing and Evaluating the Effectiveness of Wetland Conservation Projects Completed Under the NAWCA” (Sect. 19, part (1)) and the “NAWCA Evaluation Grant Proposal Development and Review” outline (Sect. 19, part (2)). Both of these documents are approved by the NAWCA Council and have been used to develop the guidelines. The Service is requesting a 3-year term of re-approval for this information collection activity. An agency may not conduct or sponsor, and a person is not required to respond to, a collection of information unless it displays a currently valid OMB control number.

We invite your comments on: (1) Whether the collection of information is necessary for the proper performance of the functions of the agency, including whether the information will have practical utility; (2) the accuracy of the agency's estimate of the burden of the collection of information; (3) ways to enhance the quality, utility and clarity of the information to be collected; and, (4) ways to minimize the burden of the collection of information on respondents.

Title: Information Collection In Support of Grant Programs Authorized by the North American Wetlands Conservation Act of 1989 (NAWCA).

Approval Number: 1018-0104. Initial OMB approval was granted September 30, 1999.

Service Form Number(s): N/A.

Description and Use: The North American Waterfowl Management Plan (NAWMP), first signed in 1986, is a tripartite agreement among Canada, Mexico and the United States to enhance, restore and otherwise protect continental wetlands to benefit waterfowl and other wetland associated wildlife through partnerships between and among the private and public sectors. Because the 1986 NAWMP did not carry with it a mechanism to provide for broadly-based and sustained financial support for wetland conservation activities, Congress passed and the President signed into law the NAWCA to partially fill that funding need. The purpose of NAWCA is to use partnerships to promote long-term conservation of North American wetland ecosystems and the waterfowl and other migratory birds, fish and wildlife that depend upon such habitat. Principal conservation actions supported by NAWCA are acquisition, enhancement and restoration of wetlands and wetlands-associated habitat.

As well as providing for a continuing and stable funding base, NAWCA establishes an administrative body, i.e., Council, made up of a State representative from each of the four Flyways, three representatives from wetlands conservation organizations, the Secretary of the Board of the National Fish and Wildlife Foundation, and the Director of the Service. This North American Wetlands Conservation Council is exempt from the requirements of Public Law 92-463 (Federal Advisory Committee Act). The purpose of the Council is to recommend wetlands conservation project proposals to the Migratory Bird Conservation Commission (MBCC) for funding.

Subsection (c) of Section 5 (Council Procedures) provides that the “* * * Council shall establish practices and procedures for the carrying out of its functions under subsections (a) and (b) of this section * * *,” which are consideration of projects and recommendations to the MBCC, respectively. The means by which the Council decides which project proposals are important to recommend to the MBCC is through grants programs that are coordinated through the Council Coordinator's office (Division of Bird Habitat Conservation) within the Service.

Applications from partnerships competing for regular grant program funds must describe in substantial detail project locations and other characteristics that will meet standards established by the Council and requirements of NAWCA. The Evaluation Grants Program differs in that it provides a two-stage process wherein successful applicants will have submitted both a pre-proposal and a proposal. Pre-proposals are intended to allow screening such that only the projects that have the greatest potential for contributing to the evaluation program will be continued into the proposal stage. The Council Coordinator's office currently publishes and distributes Standard and Small Grants instructional booklets that assist applicants in formulating project proposals for Council consideration. The guidelines for the grants evaluation program, to be contained in the request for proposal, is an additional information collection instrument. The guidelines and instructions and other instruments, e.g., Federal Register notices on request for proposals, are the basis for this information collection request for OMB clearance. Information collected under this program is used to respond to such needs as: audits, program planning and management, program evaluation, Government Performance and Results Act reporting, Standard Form 424 (Application For Federal Assistance), grant agreements, budget reports and justifications, public and private requests for information, data provided to other programs for databases on similar programs, Congressional inquiries and reports required by NAWCA, etc. In the case of the additional Evaluation Grants Program guidelines, the request responds also to the statutory requirements of the Act.

In summary, information collection under this program is required to obtain a benefit, i.e., a cash reimbursable grant that will be given competitively to selected applicants based on eligibility and the relative value of their projects to contribute to meaningful technical evaluation of the success of the grants programs. The information collection is subject to the Paperwork Reduction Act requirements for such activity, which includes soliciting comments from the general public regarding the nature and burden imposed by the collection.

Frequency of Collection: Occasional. We intend the Evaluation Grant Program to have one project proposal submissions window per year.

Description of Respondents: Households and/or individuals; business and/or other for-profit; not-for-profit institutions; farms; Federal Government; and State, local and/or Tribal governments.

Estimated Completion Time: We estimate the reporting burden, or time involved in writing project submissions, to be 8 hours for a pre-proposal and 40 hours for a proposal.

Number of Respondents: We estimate that 30 pre-proposals and 10 proposals will be submitted each year for the grants evaluation program.

Dated: July 16, 2002.
Marshall P. Jones,
Acting Director, Fish and Wildlife Service.

[FR Doc. 02-23844 Filed 9-18-02; 8:45 am]

BILLING CODE 4310-55-P